DEPARTMENT OF HEALTH AND HUMAN SERVICES

Centers for Disease Control and Prevention

Healthcare Infection Control Practices Advisory Committee (HICPAC)

In accordance with section 10(a)(2) of the Federal Advisory Committee Act (Pub. L. 92-463), the Centers for Disease Control and Prevention (CDC) announces the following meeting.

Name: Healthcare Infection Control Practices Advisory Committee: Conference Call Meeting.

Time and Date: 1 p.m.-3 p.m., August 17, 2004.

Place: The conference call will originate at the Division of Healthcare Quality Promotion (DHQP), in Atlanta, Georgia. Please see Supplementary Information for details on accessing the conference call.

Status: Open to the public, limited only by the availability of telephone ports.

Purpose: The Committee is charged with providing advice and guidance to the Secretary; the Assistant Secretary for Health; the Director, CDC; and the Director, National Center for Infectious Diseases (NCID), regarding (1) the practice of hospital infection control; (2) strategies for surveillance, prevention, and control of infections (e.g., nosocomial infections), antimicrobial resistance, and related events in settings where healthcare is provided; and (3) periodic updating of guidelines and other policy statements regarding prevention of healthcare-Associated infections and healthcare-related conditions.

Matters to be Discussed: The Healthcare Infection Control Practices Advisory Committee will convene by conference call to discuss the draft Guidance Document on Public Reporting of Healthcare-Associated Infection Rates.

Supplementary Information: This conference call is scheduled to begin at 1 p.m., eastern time. To participate in the conference call, please dial 1-877-675-5901 and enter Pass Code 254137. You will then be automatically connected to the call.

For Further Information Contact: Harriette Lynch, Committee Management Specialist, HICPAC, DHQP, NCID, CDC, 1600 Clifton Road, NE., M/S A-07, Atlanta, Georgia 30333, telephone 404/498-1182, fax 404/498-1188.

The Director, Management Analysis and Services Office, has been delegated the authority to sign Federal Register notices pertaining to announcements of meetings and other committee management activities, for both CDC and the Agency for Toxic Substances and Disease Registry.

Dated: July 27, 2004.
Alvin Hall,
Director, Management Analysis and Services Office, Centers for Disease Control and Prevention.

[FR Doc. 04-17621 Filed 8-2-04; 8:45 am]

BILLING CODE 4163-18-P